INTERNATIONAL TRADE COMMISSION

[Investigation No. 731-TA-1089 (Review)]

Certain Orange Juice From Brazil

Determination

On the basis of the record ¹ developed in the subject five-year review, the United States International Trade Commission (Commission) determines, pursuant to section 751(c) of the Tariff Act of 1930 (19 U.S.C. 1675(c)), that revocation of the antidumping duty order on certain orange juice from Brazil would not be likely to lead to continuation or recurrence of material injury to an industry in the United States within a reasonably foreseeable time.

¹ The record is defined in sec. 207.2(f) of the Commission's Rules of Practice and Procedure (19 CFR 207.2(f)).

Background

The Commission instituted this review on February 1, 2011 (76 FR 5822, February 2, 2011) and determined on May 9, 2011 that it would conduct a full review (76 FR 30197, May 24, 2011). Notice of the scheduling of the Commission's review and of a public hearing to be held in connection therewith was given by posting copies of the notice in the Office of the Secretary, U.S. International Trade Commission, Washington, DC, and by publishing the notice in the Federal Register on July 14, 2011 (76 FR 43344, July 20, 2012). The hearing was held in Washington, DC, on January 24, 2012, and all persons who requested the opportunity were permitted to appear in person or by counsel.

The Commission transmitted its determination in this review to the Secretary of Commerce on April 9, 2012. The views of the Commission are contained in USITC Publication 4311 (April 2012), entitled Certain Orange Juice from Brazil: Investigation No. 731-TA-1089 (Review).

Issued: April 10, 2012.
By order of the Commission.
James R. Holbein,
Secretary to the Commission.

[FR Doc. 2012-8898 Filed 4-12-12; 8:45 am]

BILLING CODE 7020-02-P